NATIONAL AERONAUTICS AND SPACE ADMINISTRATION

[Notice (08-085)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: November 12, 2008.

FOR FURTHER INFORMATION CONTACT: James J. McGroary, Patent Counsel, Marshall Space Flight Center, Mail Code LS01, Huntsville, AL 35812; telephone (256) 544-0013; fax (256) 544-0258.

NASA Case No. MFS-32318-1: Systems, Methods and Apparatus for Position Sensor Digital Conditioning Electronics;

NASA Case No. MFS-32005-1: Fluid Mixing Plug with Metering Capabilities;

NASA Case No. MFS-32341-1: Seal Apparatus and Methods to Manufacture Thereof;

NASA Case No. MFS-32605-1: Novel Grazing Incidence Neutron Optics;

NASA Case No. MFS-32228-1: Short-Range Communication System.

Dated: November 4, 2008.
Michael C. Wholley,
General Counsel.

[FR Doc. E8-26822 Filed 11-10-08; 8:45 am]

BILLING CODE 7510-13-P